DEPARTMENT OF THE TREASURY

Internal Revenue Service

26 CFR Part 1

[TD 9366]

RIN 1545-BG38

Notification Requirement for Tax-Exempt Entities Not Currently Required to File; Correction

AGENCY: Internal Revenue Service (IRS), Treasury.

ACTION: Correction to temporary regulations.

SUMMARY: This document contains a correction to temporary regulations (TD 9366) that was published in the Federal Register on Thursday, November 15, 2007 (72 FR 64147) describing the time and manner in which certain tax-exempt organizations not currently required to file an annual information return under section 6033(a)(1) are required to submit an annual electronic notice including certain information required by section 6033(i)(1)(A) through (F).

DATES: The correction is effective November 23, 2007.

FOR FURTHER INFORMATION CONTACT: Monice Rosenbaum at (202) 622-6070 (not a toll-free number).

SUPPLEMENTARY INFORMATION:

Background

The temporary regulations that are the subject of this correction are under section 6033 of the Internal Revenue Code.

Need for Correction

As published, the temporary regulations (TD 9366) contain an error that may prove to be misleading and is in need of clarification.

Correction of Publication

Accordingly, the publication of the temporary regulations (TD 9366), which was the subject of FR Doc. E7-22299, is corrected as follows:

On page 64149, column 1, second paragraph of the column, in the preamble, under the paragraph heading “Organizations Required To File Returns or Submit Electronic Notice”, line 5, the language “an organization exemption from” is corrected to read “an organization exempt from”.

LaNita Van Dyke,
Chief, Publications and Regulations Branch, Legal Processing Division, Associate Chief Counsel (Procedure and Administration).

[FR Doc. E7-22892 Filed 11-21-07; 8:45 am]

BILLING CODE 4830-01-P